DEPARTMENT OF COMMERCE

National Oceanic and Atmospheric Administration

Proposed Information Collection; Comment Request; Southeast Region Gulf of Mexico Mandatory Shrimp Vessel and Gear Characterization Survey

AGENCY: National Marine Fisheries Service (NMFS), National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted by December 5, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Adam Bailey, National Marine Fisheries Service, Southeast Regional Office, Sustainable Fisheries Division, 263 13th Ave S, St. Petersburg, FL 33701, (727) 824-8305, or adam.bailey@noaa.gov.

SUPPLEMENTARY INFORMATION:

I. Abstract

This request is for extension of a current information collection.

The Magnuson-Stevens Fishery Conservation and Management Act (Magnuson-Stevens Act) authorizes the Gulf of Mexico Fishery Management Council (Council) to prepare and amend fishery management plans (FMPs) for any fishery in Federal waters under its jurisdiction. NMFS and the Council manage the shrimp fishery in the Federal waters of the Gulf of Mexico (Gulf) under the FMP for the Shrimp Fishery of the Gulf. The regulations for the Gulf Shrimp Vessel and Gear Characterization Form may be found at 50 CFR 622.51(a)(3).

Owners or operators of vessels applying for or renewing a commercial vessel permit for Gulf shrimp must complete an annual Gulf Shrimp Vessel and Gear Characterization Form. NMFS provides the form at the time of permit application and renewal. Compliance with this reporting requirement is required for permit issuance and renewal.

Through this form, NMFS collects census-level information on fishing vessel and gear characteristics in the Gulf shrimp fishery to conduct analyses that will improve management decision-making in this fishery. In addition, these analyses ensure that national goals, objectives, and requirements of the Magnuson-Stevens Act, National Environmental Policy Act, Regulatory Flexibility Act, Endangered Species Act, and Executive Order 12866 are met; and quantify achievement of the performance measures in the NMFS' Operating Plans. This information is vital in assessing the economic, social, and environmental effects of fishery management decisions and regulations on individual shrimp fishing enterprises, fishing communities, and the nation as a whole.

There have been minor adjustments to responses and burden. As of August 26, 2016, there are approximately 1,445 vessels with valid or renewable permits in the Gulf shrimp fishery. The slightly fewer number of vessels has resulted in adjusted estimates of total burden hours and costs as noted below in Section III.

II. Method of Collection

Respondents are mailed hard copies of the form. Permit applicants must complete and mail the form back to NMFS before permits expire and before NMFS will issue permits.

III. Data

OMB Control Number: 0648-0542.

Form Number(s): None.

Type of Review: Regular submission—renewal of a current information collection.

Affected Public: Business or other for-profit organizations.

Estimated Number of Respondents: 1,445.

Estimated Time per Response: 20 minutes.

Estimated Total Annual Burden Hours: 482.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 3, 2016.
Sarah Brabson,
NOAA PRA Clearance Officer.

[FR Doc. 2016-24194 Filed 10-5-16; 8:45 am]

BILLING CODE 3510-22-P